DEPARTMENT OF HEALTH AND HUMAN SERVICES

Centers for Medicare & Medicaid Services

[Document Identifier: CMS-668B and CMS-10181]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Post Clinical Laboratory Survey Questionnaire and Supporting Regulations in 42 CFR 493.1771, 493.1773, and 493.1777; Use: To provide an opportunity and a mechanism for Clinical Laboratory Improvement Amendments of 1988 (CLIA) laboratories surveyed by CMS or CMS' agents to express their satisfaction and concerns about the CLIA survey process.; Form Number: CMS-668B (OMB #0938-0653); Frequency: Recordkeeping, Reporting—Biennially; Affected Public: Business or other for-profit and Not-for-profit institutions; Number of Respondents: 21,000; Total Annual Responses: 10,500; Total Annual Hours: 2,625.

2. Type of Information Collection Request: New collection; Title of Information Collection: Enrolling Low-Income Beneficiaries into the Medicare Prescription Drug Program—Survey of State Agency Experiences; Use: The Centers for Medicare and Medicaid Services (CMS) will conduct a survey of State Medicaid agencies, State health insurance plans (SHIPs), and State pharmaceutical assistance programs (SPAPs) to identify best practices for the successful enrollment of all types of low-income Medicare beneficiaries into a low-income subsidy and the Medicare Part D Prescription Drug Benefit Program. The evaluation will assist in identifying the best practices, the factors that make them effective, and how the information can be disseminated in an effective manor. The information will be used to help CMS as it designs its outreach and communication campaigns in subsequent open enrollment periods.; Form Number: CMS-10181 (OMB #0938-NEW); Frequency: Reporting—Other, one-time; Affected Public: State, Local or Tribal governments, Federal government; Number of Respondents: 126; Total Annual Responses: 126; Total Annual Hours: 63.

To obtain copies of the supporting statement and any related forms for the proposed paperwork collections referenced above, access CMS” Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on May 2, 2006. CMS, Office of Strategic Operations and Regulatory Affairs, Division of Regulations Development—A, Attention: Melissa Musotto (CMS-668B), Room C4-26-05, 7500 Security Boulevard, Baltimore, Maryland 21244-1850.

Dated: February 22, 2006.
Michelle Shortt,
Director, Regulations Development Group, Office of Strategic Operations and Regulatory Affairs.

[FR Doc. 06-1919 Filed 3-2-06; 8:45 am]

BILLING CODE 4120-01-P